ENVIRONMENTAL PROTECTION AGENCY

[ER-FRL-9020-4]

Environmental Impact Statements; Notice of Availability

Responsible: Office of Federal Activities, General Information (202) 564-7146 or http://www.epa.gov/compliance/nepa/.

Weekly receipt of Environmental Impact Statements

Filed 03/30/2015 Through 04/03/2015

Pursuant to 40 CFR 1506.9.

Notice

Section 309(a) of the Clean Air Act requires that EPA make public its comments on EISs issued by other Federal agencies. EPA's comment letters on EISs are available at: http://www.epa.gov/compliance/nepa/eisdata.html.

EIS No. 20150092, Final EIS, BOP, KS,Leavenworth Federal Correctional Institution and Federal Prison Camp, Review Period Ends: 05/11/2015, Contact: Issac Gaston 202-514-6470.

EIS No. 20150093, Draft EIS, FERC, CA,Hydropower Licenses—Merced River Hydroelectric Project (FERC No. 2179-043) and Merced Falls Hydroelectric Project (FERC No. 2467-020), Comment Period Ends: 05/29/2015, Contact: Matt Buhyoff 202-502-6824.

EIS No. 20150094, Final EIS, FERC, AL,Martin Dam Hydroelectric Project, FERC Project No. 349-173, Review Period Ends: 05/11/2015, Contact: Stephen Bowler 202-502-6861.

EIS No. 20150095, Draft EIS, FTA, WA,Federal Way Link Extension, Comment Period Ends: 05/26/2015, Contact: James Saxton 206-220-7954.

EIS No. 20150096, Draft EIS, NPS, HI,Kalaupapa National Historical Park Draft General Management Plan, Comment Period Ends: 06/08/2015, Contact: Erika Stein Espaniola 808-567-6802.

EIS No. 20150097, Second Final Supplement, USFS, UT,Ogden Ranger District Travel Plan Revision, Review Period Ends: 05/14/2015, Contact: Sendi Kalcic 435-755-3633.

EIS No. 20150098, Draft EIS, USMC, DC,Multiple Projects in Support of Marine Barracks in Washington, DC, Comment Period Ends: 05/26/2015, Contact: Katherine Childs 202-685-0164.

EIS No. 20150099, Final Supplement, BR, ND,Northwest Area Water Supply Project, Review Period Ends: 05/11/2015, Contact: Alicia Waters 701-221-1206.

EIS No. 20150100, Final EIS, AFS, WA,Mt. Baker-Snoqualmie National Forest Invasive Plant Treatment, Review Period Ends: 05/26/2015, Contact: Phyllis Reed 360-436-2332.

EIS No. 20150101, Final EIS, BLM, CO,Grand Junction Field Office Proposed Resource Management Plan, Review Period Ends: 05/11/2015, Contact: Christina Stark 970-244-3027.

EIS No. 20150102, Draft EIS, USACE, OH,Western Lake Erie Basin, Blanchard River Watershed Study, Comment Period Ends: 05/26/2015, Contact: Michael Pniewski 1-888-833-6390.

Dated: April 7, 2015.
Cliff Rader,
Director, NEPA Compliance Division, Office of Federal Activities.

[FR Doc. 2015-08325 Filed 4-9-15; 8:45 am]

BILLING CODE 6560-50-P